ENVIRONMENTAL PROTECTION AGENCY

40 CFR Part 52

[IN118-1b; FRL-6538-4]

Approval and Promulgation of Implementation Plan; Indiana

AGENCY: Environmental Protection Agency (EPA).

ACTION: Proposed rule.

SUMMARY: EPA is proposing to approve revisions to particulate matter (PM) emissions regulations for Indianapolis Power and Light Company (IPL) in Marion County, Indiana, which were submitted by the Indiana Department of Environmental Management (IDEM) on November 22, 1999, as amendments to its State Implementation Plan (SIP). The revisions apply to 3 IPL generating stations located in Indianapolis: Perry K, Perry W (demolished), and E. W. Stout. The revisions include relaxation of some PM limits, tightening of other limits, and the elimination of limits for several boilers which are no longer operating. The revisions also include the combination of annual emissions limits for several boilers, and correction of a typographical error in one limit. This SIP revision results in an overall decrease in allowed PM emissions of 52.54 tons per year. An air quality modeling analysis conducted by the IDEM shows that the maximum daily and annual impacts of this SIP revision are well below established significance levels. Therefore, this SIP revision will not have an adverse effect on PM air quality.

DATES: EPA must receive written comments on this proposed rule by March 24, 2000.

ADDRESSES: You should mail written comments to: J. Elmer Bortzer, Chief, Regulation Development Section, Air Programs Branch (AR-18J), U.S. Environmental Protection Agency, Region 5, 77 West Jackson Boulevard, Chicago, Illinois 60604.

You may inspect copies of the State submittal and EPA's analysis of it at:

Regulation Development Section, Air Programs Branch (AR-18J), U.S. Environmental Protection Agency, Region 5, 77 West Jackson Boulevard, Chicago, Illinois 60604.

FOR FURTHER INFORMATION CONTACT: David Pohlman, Environmental Scientist, Regulation Development Section, Air Programs Branch (AR-18J), U.S. Environmental Protection Agency, Region 5, 77 West Jackson Boulevard, Chicago, Illinois 60604, (312) 886-3299.

SUPPLEMENTARY INFORMATION: Throughout this document wherever “we,” “us,” or “our” are used we mean EPA.

Table of Contents

I. What action is EPA taking today?

II. Where can I find more information about this proposal and the corresponding direct final rule?

I. What action is EPA taking today?

We are proposing to approve PM emissions regulations for IPL in Marion County, Indiana, which were submitted by the IDEM on November 22, 1999, as amendments to its SIP. The revisions apply to 3 IPL generating stations located in Indianapolis: Perry K, Perry W (demolished), and E.W. Stout. The revisions include relaxation of some PM limits, tightening of other limits, and the elimination of limits for several boilers which are no longer operating. The revisions also include the combination of annual emissions limits for several boilers, and correction of a typographical error in one limit.

II. Where can I find more information about this proposal and the corresponding direct final rule?

For additional information see the direct final rule published in the rules section of this Federal Register.

Dated: February 4, 2000.
Francis X. Lyons,
Regional Administrator, Region 5.

[FR Doc. 00-4046 Filed 2-22-00; 8:45 am]

BILLING CODE 6560-50-P